INTERNATIONAL TRADE COMMISSION

[Investigation No. 332-516; Investigation No. 332-517]

Certain Environmental Goods: Probable Economic Effect of Duty-Free Treatment for U.S. Imports; Certain Environmental Goods: U.S. International Trade and Competitive Conditions

AGENCY: United States International Trade Commission.

ACTION: Institution of investigations and scheduling of hearing.

SUMMARY: Following receipt of a request dated April 16, 2010 from the United States Trade Representative (USTR) under section 332(g) of the Tariff Act of 1930 (19 U.S.C. 1332(g)), the U.S. International Trade Commission (Commission) instituted investigation No. 332-516, Certain Environmental Goods: Probable Economic Effect of Duty-Free Treatment for U.S. Imports, and investigation No. 332-517, Certain Environmental Goods: U.S. International Trade and Competitive Conditions.

DATES:

Investigation No. 332-516:

July 7, 2010: Deadline for filing written submissions from interested parties.

October 18, 2010: Transmittal of the Commission's report to USTR.

Investigation No. 332-517:

September 7, 2010: Deadline for filing requests to appear at the public hearing.

September 14, 2010: Deadline for filing pre-hearing briefs and statements.

September 28, 2010: Public hearing.

October 6, 2010: Deadline for filing post-hearing briefs and written submissions from interested parties.

February 16, 2011: Transmittal of the Commission's report to USTR.

ADDRESSES: All Commission offices, including the Commission's hearing rooms, are located in the United States International Trade Commission Building, 500 E Street, SW., Washington, DC. All written submissions should be addressed to the Secretary, United States International Trade Commission, 500 E Street, SW., Washington, DC 20436. The public record for this investigation may be viewed on the Commission's electronic docket (EDIS) at http://www.usitc.gov/secretary/edis.htm.

FOR FURTHER INFORMATION CONTACT: Co-project leaders Karl Tsuji (202-205-3434 or karl.tsuji@usitc.gov) or Andrew David (202-205-3368 or andrew.david@usitc.gov) for information specific to these investigations. For information on the legal aspects of these investigations, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: As requested, in the first report (investigation No. 332-516), the Commission will provide advice as to the probable economic effect on U.S. industries and on U.S. consumers of reducing U.S. tariffs to zero on dutiable imported environmental goods from all U.S. trading partners, based on 2010 HTS nomenclature at the 8-digit level, and using 2009 trade data. In absence of a universally accepted definition of an “environmental good,” the Commission, for purposes of its analysis, will refer to the items proposed in Annex III of WTO document TN/TE/19, and as applicable, the additional product-specific descriptions set out in that Annex.

As requested, for the second report (investigation No. 332-517), the Commission will:

• Provide an overview of the current state of global environmental goods trade; and

• Develop industry, trade, and market information for the items proposed in Annex III of WTO document TN/TE/19, taking into account to the extent possible, the additional, more detailed product descriptions in that Annex. Such information will include major U.S. producers and exporters, key U.S. export markets, MFN applied and bound tariffs in those markets, and the value of U.S. imports and exports for 2007-09, to the extent practical; and

• Prepare several case studies on the competitive position of selected U.S. environmental goods industries that produce the items proposed in Annex III of WTO document TN/TE/19. The Commission will select environmental goods of significant export and/or commercial interest to the United States. Each case study will include a description of the competitive factors affecting exports, or the potential to export, and to the extent practical, identify tariff and non-tariff measures, government programs, and technological advantages, and provide information on shares in domestic and major foreign markets as well as other relevant information.

The Commission will submit its first report to USTR by October 18, 2010, and its second report to USTR by February 16, 2011. The USTR indicated that the portions of the Commission's first report and its associated working papers that deal with the requested probable economic effect advice, as well as relevant parts of the more detailed analysis, as identified by USTR, will be classified as “confidential.” The USTR said that his office will provide further guidance relating on the extent to which portions of the two reports require classification and the duration. The USTR also stated that he considers the Commission's reports to be inter-agency memoranda that will contain pre-decisional advice and be subject to the deliberative process privilege.

Public Hearing: A public hearing in connection with the second investigation (No. 332-517) will be held at the U.S. International Trade Commission Building, 500 E Street, SW., Washington, DC, beginning at 9:30 a.m. on September 28, 2010. Requests to appear at the public hearing should be filed with the Secretary, no later than 5:15 p.m., September 7, 2010, in accordance with the requirements in the “Submissions” section below. All pre-hearing briefs and statements should be filed not later than 5:15 p.m., September 14, 2010; and all post-hearing briefs and statements should be filed not later than 5:15 p.m., October 6, 2010. In the event that, as of the close of business on September 7, 2010, no witnesses are scheduled to appear at the hearing, the hearing will be canceled. Any person interested in attending the hearing as an observer or nonparticipant may call the Secretary to the Commission (202-205-2000) after September 7, 2010, for information concerning whether the hearing will be held. The Commission intends to issue a subsequent Federal Register notice that will provide details on the subject areas that would be of particular interest for witnesses to address at the public hearing.

Written Submissions: In lieu of or in addition to participating in the hearing, interested parties are invited to submit written statements concerning these investigations. All written submissions should be addressed to the Secretary, and should be received not later than 5:15 p.m. on the respective dates specified above for each investigation. All written submissions must conform with the provisions of section 201.8 of the Commission's Rules of Practice and Procedure (19 CFR 201.8). Section 201.8 requires that a signed original (or a copy so designated) and fourteen (14) copies of each document be filed. In the event that confidential treatment of a document is requested, at least four (4) additional copies must be filed, in which the confidential information must be deleted (see the following paragraph for further information regarding confidential business information). The Commission's rules authorize filing submissions with the Secretary by facsimile or electronic means only to the extent permitted by section 201.8 of the rules (see Handbook for Electronic Filing Procedures, http://www.usitc.gov/secretary/fed_reg_notices/rules/documents/handbook_on_electronic_filing.pdf). Persons with questions regarding electronic filing should contact the Secretary (202-205-2000). Any submissions that contain confidential business information must also conform with the requirements of section 201.6 of the Commission's Rules of Practice and Procedure (19 CFR 201.6). Section 201.6 of the rules requires that the cover of the document and the individual pages be clearly marked as to whether they are the “confidential” or “non-confidential” version, and that the confidential business information be clearly identified by means of brackets. All written submissions, except for confidential business information, will be made available for inspection by interested parties.

Some or all of the confidential business information that the Commission receives in this investigation may be included in the report that the Commission sends to the USTR. However, any confidential business information received by the Commission in this investigation and used in preparing this report will not be published in a manner that would reveal the operations of the firm supplying the information.

By order of the Commission.
Issued: May 14, 2010.
Marilyn R. Abbott,
Secretary to the Commission.

[FR Doc. 2010-12211 Filed 5-20-10; 8:45 am]

BILLING CODE 7020-02-P